DEPARTMENT OF HEALTH AND HUMAN SERVICES

National Institutes of Health

Proposed Collection: Comment Request; Revision of OMB No. 0925-0001/exp.02/28/01, “Research and Research Training Grant Applications and Related Forms”

SUMMARY: In compliance with the requirement of Section 3506(c)(2)(A) of the Paperwork Reduction Act of 1995, for opportunity for public comment on proposed data collection projects, the Office of Extramural Research, the National Institutes of Health (NIH) will publish periodic summaries of proposed projects to be submitted to the Office of Management and Budget (OMB) for review and approval.

Proposed Collection

Title: Research and Research Training Grant Applications and Related Forms.

Type of Information Collection Request: Revision, OMB 0925-0001, Expiration Date 02/28/01. Form Numbers: PHS 398, 2590, 2271, 3734 and HHS 568.

Need and Use of Information Collection: The application is used by applicants to request Federal assistance for research and research-related training. The other related forms are used for trainee appointment, final invention reporting, and to relinquish rights to a research grant.

Frequency of response: Applicants may submit applications for published receipt dates. If awarded, annual progress is reported and trainees may be appointed or reappointed.

Affected Public: Individuals or Households; Business or other for-profit; Not-for-profit institutions; Federal Government; and State, Local or Tribal Government.

Type of Respondents: Adult scientific professionals. The annual reporting burden is as follows:

Estimated Number of Respondents: 114,407;

Estimated Number of Responses per Respondent: 1;

Average Burden Hours Per Response: 12.040; and

Estimated Total Annual Burden Hours Requested: 1,377,548. The estimated annualized cost to respondents is $48,214,180.

Request for Comments

Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

FOR FURTHER INFORMATION CONTACT: To request more information on the proposed project or to obtain a copy of the data collection plans and instruments, contact Ms. Jan Heffernan, Division of Grants Policy, Office of Policy for Extramural Research Administration, NIH, Rockledge 1 Building, Room 1196, 6705 Rockledge Drive, Bethesda, MD 20892-7974, or call non-toll-free number (301) 435-0940, or E-mail your request, including your address to: Heffernj@OD.NIH.GOV

Comments Due Date

Comments regarding this information collection are best assured of having their full effect if received on or before February 5, 2001.

Dated: November 29, 2000.
Carol Tippery,
Acting Director, OPERA, NIH, GOV.

[FR Doc. 00-31213 Filed 12-6-00; 8:45 am]

BILLING CODE 4140-01-M